FEDERAL COMMUNICATIONS COMMISSION

47 CFR Part 73

[MB Docket No. 24-153; RM-11983; DA 24-865; FR ID 242165]

Television Broadcasting Services Augusta, Georgia

AGENCY: Federal Communications Commission.

ACTION: Final rule.

SUMMARY: On June 24, 2024, the Video Division, Media Bureau (Bureau), issued a notice of proposed rulemaking in response to a Petition for Rulemaking filed by Gray Television Licensee, LLC (Gray), the licensee of WRDW-TV (Station or WRDW-TV), Augusta, Georgia (Augusta). Gray requested amendment of the Table of TV Allotments to substitute channel 12 for channel 27. Gray filed comments in support of the Petition, as required by the Commission's rules (rules), reaffirming its interest in the proposed channel substitution and that it will promptly file an application seeking authorization on channel 12. The Bureau concludes that the public interest would be served by substituting channel 12 for channel 27 at Augusta.

DATES: Effective October 7, 2024.

FOR FURTHER INFORMATION CONTACT: Joyce Bernstein, Media Bureau, at (202) 418-1647 or Joyce.Bernstein@fcc.gov.

SUPPLEMENTARY INFORMATION: The proposed rule was published at 89 FR 52431 on June 24, 2024. The Petitioner filed comments in support of the petition reaffirming its commitment to apply for channel 12. No other comments were filed.

The Bureau concludes that the public interest would be served by substituting channel 12 for channel 27 at Augusta. On May 15, 2021, the Bureau granted a petition for rulemaking submitted by Gray to substitute channel 27 for channel 12 at Augusta for WRDW-TV. Gray was also granted a construction permit to construct a facility on channel 27 at Augusta, but was unable complete construction of the channel 27 facility by the expiration date—June 25, 2024. Thus, Gray requested amendment of the Table of TV Allotments to allow it to continue to operate pursuant to the parameters of its current license on channel 12, and the substitution of channel 12 for channel 27 in the TV Table of Allotments would allow the Station to remain on the air and continue to provide service to viewers within its service area.

Gray proposed to utilize its currently licensed parameters and as such we find that channel 12 can be substituted for channel 27 at Augusta as proposed, in compliance with the principal community coverage requirements of § 73.618(a) of the rules, at coordinates 33-24′-37″ N and 081-50′-36.0″ W. In addition, we find that this channel substitution meets the technical requirements set forth in § 73.622(a) of the rules.

This is a synopsis of the Commission's Report and Order, MB Docket No. 24-153; RM-11983; DA 24-865, adopted August 27, 2024, and released August 27, 2024. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of TV Allotments, under Georgia, by revising the entry for Augusta to read as follows:

§ 73.622 Digital television table of allotments.

* * * * *

(j) * * *

Community | Channel No.
* * * * *
Georgia
* * * * *
Augusta | 12, 28, 36
* * * * *

* * * * *

[FR Doc. 2024-20102 Filed 9-5-24; 8:45 am]

BILLING CODE 6712-01-P